DEPARTMENT OF COMMERCE

National Oceanic and Atmospheric Administration

[I.D. 032607D]

New England Fishery Management Council; Public Meetings

AGENCY: National Marine Fisheries Service (NMFS), National Oceanic and Atmospheric Administration (NOAA), Commerce.

ACTION: Notice of public committee meetings.

SUMMARY: The New England Fishery Management Council's (Council) Multispecies (Groundfish) Advisory Panel and Committee will hold meetings to consider actions affecting New England fisheries in the exclusive economic zone (EEZ).

DATES: The meetings will be held April 19-20, 2007. For specific dates and times, see SUPPLEMENTARY INFORMATION.

ADDRESSES: The meetings will be held at the Holiday Inn, One Newbury Street, Peabody, MA 01960; telephone: (978) 535-4600.

Council address: New England Fishery Management Council, 50 Water Street, Mill #2, Newburyport, MA 01950.

FOR FURTHER INFORMATION CONTACT: Paul J. Howard, Executive Director, New England Fishery Management Council; telephone: (978)465-0492.

SUPPLEMENTARY INFORMATION: The advisory panel and committee's schedule and agenda for the following two meetings are as follows:

1. Thursday, April 19, 2007, beginning at 9 a.m. - Groundfish Advisory Panel Meeting

The Groundfish Advisory Panel (Panel) will meet to review scoping comments received for Amendment 16 to the Northeast Multispecies Fishery Management Plan (FMP). This amendment will adopt measures as necessary to continue the rebuilding of several stocks of groundfish, as well as make other changes to the FMP that may be required. The Panel will spend most of its time reviewing two alternative management proposals received during scoping. One proposal, called area management, suggests managing in discrete, finite areas with specific measures tailored to those areas. A second proposal suggests allocating points to commercial fishing vessels that will be deducted based on catch. If time permits, the Panel will also review other comments received during scoping, including suggestions for changes to the days-at-sea (DAS) program and other management measures. The Panel may also consider other business. Panel recommendations will be forwarded to the Multispecies Committee at a meeting on April 20, 2007.

2. Friday, April 20, 2007, beginning at 9 a.m.- Multispecies (Groundfish) Committee Meeting

The Multispecies Committee will meet to develop Amendment 16 to the Northeast Multispecies FMP. This amendment will adopt measures as necessary to continue the rebuilding of several stocks of groundfish, as well as make other changes to the FMP that may be required. The Committee will spend most of its time reviewing two alternative management proposals received during scoping. One proposal, called area management, suggests managing in discrete, finite areas with specific measures tailored to those areas. A second proposal suggests allocating points to commercial fishing vessels that will be deducted based on catch. The committee will also discuss a proposal for a limited entry program for party/charter vessels fishing in the Gulf of Maine. Other business may also be discussed. Committee recommendations will be forwarded to the Council for action at a future date.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids sho uld be directed to Paul J. Howard (see ADDRESSES) at least 5 working days prior to the meeting date.

Authority: 16 U.S.C. 1801 et seq.

Dated: March 26, 2007.
Tracey L. Thompson,
Acting Director, Office of Sustainable Fisheries, National Marine Fisheries Service.

[FR Doc. E7-5823 Filed 3-29-07; 8:45 am]

BILLING CODE 3510-22-S